DEPARTMENT OF EDUCATION

[CFDA No: 84.101]

Native American Vocational and Technical Education Program (NAVTEP); Notice Inviting Applications for New Awards for Fiscal Year (FY) 2000

Notice to Applicants: This notice is a complete application package. Together with the statute authorizing the program and applicable regulations governing the program, including the Education Department General Administrative Regulations (EDGAR), the notice contains all of the information, application forms, and instructions needed to apply for a grant under this competition.

SUMMARY: The Secretary invites applications for new awards for FY 2000 under the Native American Program authority of section 116 of the Carl D. Perkins Vocational and Technical Education Act of 1998 (Act) and announces deadline dates for the transmittal of applications for funding under that program authority.

Purpose of Program: The Native American Vocational and Technical Education Program (NAVTEP), formerly known as the Indian Vocational Education Program (IVEP), provides grants to improve vocational and technical education programs that are consistent with the purposes of the Act and that benefit American Indians and Alaska Natives.

Eligible Applicants: (a) The following entities are eligible for an award under the NAVTEP:

(1) A Federally recognized Indian tribe.

(2) A tribal organization.

(3) An Alaska Native entity.

(4) A Bureau-funded school, except for a bureau funded school proposing to use its award to support secondary school vocational and technical education programs.

(b) Any tribe, tribal organization, Alaska Native entity, or eligible Bureau-funded school may apply individually or as part of a consortium with one or more eligible tribes, tribal organizations, Alaska Native entities, or eligible Bureau-funded schools. (Eligible applicants seeking to apply for funds as a consortium should read and follow the regulations in 34 CFR 75.127-75.129, which apply to group applications.)

Note: An applicant must include documentation in its application showing that it and, if appropriate, consortium members are eligible according to the requirements in paragraphs (a) and (b) of the “ELIGIBLE APPLICANTS” section of this notice.

Submission of Applications: Each tribe to be served must approve an application for a project to serve more than one Indian tribe. (25 U.S.C. 450b(1))

Deadline for Transmittal of Applications: March 2, 2001.

Available Funds: $13,063,668 for the first 12 months of the 36-month project period. Funding for the second and third 12-month periods of the 36-month project period is subject to the availability of funds and to a grantee meeting the requirements of 34 CFR 75.253 (Continuation of multi-year project after the first budget period.).

Estimated Range of Awards: $300,000 to $500,000 for the first 12 months.

Estimated Average Size of Awards: $375,000.

Estimated Number of Awards: 35.

Note: The Department is not bound by any estimates in this notice.

Project Period: Up to 36 months.

Applicable Statute and Regulations: (a) The relevant provisions of the Carl D. Perkins Vocational and Technical Education Act of 1998, 20 U.S.C. 2301 et seq., in particular, section 116(a)-(g).

(b) The Education Department General Administrative Regulations (EDGAR) as follows:

(1) 34 CFR part 74 (Administration of Grants and Agreements with Institutions of Higher Education, Hospitals, and Other Nonprofit Organizations).

(2) 34 CFR part 75 (Direct Grant Programs).

(3) 34 CFR part 77 (Definitions that Apply to Department Regulations).

(4) 34 CFR part 80 (Uniform Administrative Requirements for Grants and Cooperative Agreements to State and Local Governments).

(5) 34 CFR part 81 (General Education Provisions Act—Enforcement).

(6) 34 CFR part 82 (New Restrictions on Lobbying).

(7) 34 CFR part 85 (Governmentwide Debarment and Suspension (Nonprocurement) and Governmentwide Requirements for Drug-Free Workplace (Grants)).

(8) 34 CFR part 86 (Drug and Alcohol Abuse Prevention).

(9) 34 CFR part 97 (Protection of Human Subjects).

(10) 34 CFR part 98 (Student Rights In Research, Experimental Programs and Testing).

(11) 34 CFR part 99 (Family Educational Rights and Privacy).

SUPPLEMENTARY INFORMATION:

General

This notice implements section 116 of the Carl D. Perkins Vocational and Technical Education Act of 1998 (Act) (Pub. L. 105-332), enacted October 31, 1998. In section 116(e) of the Act, Congress expresses its intent to fund programs that improve vocational and technical education. Section 116, which continues support for the Secretary to provide grants, cooperative agreements, and contracts for Native Americans to operate vocational and technical education projects, also gives the Secretary a strong mandate to expend Federal funds under the Native American Vocational and Technical Education Program on projects that improve vocational and technical education.

Under the IVEP, the predecessor to the NAVTEP, the Congress authorized the Secretary to provide financial assistance to Indian tribes and certain schools funded by the Department of the Interior to plan, conduct, and administer projects, or portions of projects, that are authorized by and consistent with the Carl D. Perkins Vocational and Applied Technology Education Act of 1990 (20 U.S.C. 2301 et seq.). Based on requests from tribal entities, the Secretary generally funded three types of projects. First, many tribal entities used funds to provide tribal members with their initial opportunity to receive vocational and technical education in a tribal setting. Second, tribal entities used grants to improve or expand existing vocational programs or develop new ones. Third, some tribal entities received grants each year to provide continuous funding for the same vocational education programs, services, or activities.

Section 116 of the Act changes many requirements under which the Secretary must administer the vocational and technical education program for Indians. Past grant recipients under the IVEP will find that statutory changes will have a noticeable impact on how tribal entities plan for and operate projects.

The following summary is intended to help the reader to become familiar with the significant changes in section 116 of the Act and the way in which these changes are reflected in the administration of the NAVTEP as compared with the IVEP.

Changes to the Program

(a) Eligibility. (1) Applications from a tribal organization may be submitted directly to the Secretary. Under the IVEP, Indian tribes were required to submit the applications of tribal organizations.

(2) Alaska Native entities are eligible to apply for and receive an award under the NAVTEP whereas, under the IVEP, they were not.

(3)(i) Bureau-funded schools proposing to use their awards to fund secondary vocational and technical education programs are no longer eligible for direct funding from the Secretary under the NAVTEP.

(ii) Although Bureau-funded schools proposing to fund secondary programs are not eligible to receive an award directly from the Secretary, an Indian tribe, tribal organization, Alaska Native entity, or eligible Bureau funded school may use its award to assist a secondary school operated or supported by the Bureau of Indian Affairs to carry out vocational and technical education programs.

(4) A Bureau-funded school that is not proposing a secondary program is eligible for assistance under the NAVTEP. Under the IVEP, Bureau-funded schools proposing postsecondary programs were not eligible for funding. This change will enable the Bureau-funded schools for which assistance is provided under the Tribally Controlled Schools Act to receive an award under the NAVTEP. (20 U.S.C. 2326(b)(1),(3), and (6))

(b) Appeals process. (1) Any applicant may request a hearing to review the Secretary's decision not to make an award under the NAVTEP, whereas under the IVEP only tribal organizations could request a hearing.

(2) The Secretary will implement the appeals process in accordance with the procedures in 34 CFR 401.23, except that the Secretary will accept a request for a hearing from any applicant denied funding under the NAVTEP. Any applicant denied funding under the competition outlined in this notice has 30 calendar days to make a written request to the Secretary for a hearing to review the Secretary's decision.

(c) Authorized projects, services, activities. (1) Improvement. Section 116(e) of the Act requires the Secretary to ensure that activities funded under the NAVTEP “will improve vocational and technical education programs...” (20 U.S.C. 2326(e)). Through this new provision Congress has expressed its intent that the Department generally not continue support of ongoing Indian vocational and technical education programs. Further, the requirement in section 116(e) of the Act, that projects funded under NAVTEP serve to improve (rather than merely sustain) vocational and technical education programs, aligns the NAVTEP with other programs authorized under the Act that require recipients of funds under the Act to develop challenging academic standards and improve vocational and technical education.

In light of section 116(e) of the Act, the Department generally does not intend to provide continuous funding for the same vocational education programs, services, or activities. The Department will, however, continue to support projects that develop new programs, services, or activities or improve or expand existing programs, services, or activities. In other words, the Department will support “expansion” or “improvements” that include, but are not limited to, the expansion of effective programs or practices; upgrading of activities, equipment, or materials; increasing staff capacity; adoption of new technology; modification of curriculum; or implementation of new policies to improve program effectiveness and outcomes.

The Secretary believes that some programs, services, and activities, by their very nature, improve vocational and technical education and thus meet the requirement of section 116(e) of the Act. The notice provides, for the convenience of potential applicants, examples of these types of programs, services, and activities. It may become necessary for the Secretary to modify the examples as the body of knowledge improves and today's leading-edge techniques and methodologies become commonplace.

(2) Start of services to students. Under the IVEP, some applicants delayed the start of projects for as much as six months. Those applicants delayed services in order to recruit students and staff. In light of section 116(e) of the Act, applicants under the NAVTEP should plan to start their vocational and technical education programs as soon as possible after receiving notification of an award. The Secretary strongly encourages applicants to start their programs no later than two months after receiving notification. Under IVEP, many applicants were able to start projects soon after receiving funding because of pre-award planning. For example, while developing their applications, these applicants reached tentative agreements with prospective staff to work on the project in the event funding was received. The applicants also advertised the possibility of vocational and technical education services becoming available and, therefore, were able to quickly attract students.

(3) Support services. In section 3(25), the Act now uses the term “support services” to refer to services that are related to curriculum modification, equipment modification, classroom modification, supportive personnel, and instructional aids. The Carl D. Perkins Vocational and Applied Technology Education Act of 1990 used the term “supplementary services” to refer to those services. This change in terminology may create confusion for former grantees under the IVEP who, as a matter of practice, generally used the term “support services” to refer to dependent care, transportation, books, and supplies. In order to avoid confusion, under the NAVTEP the Secretary will use the term “direct assistance to students” to refer to tuition, dependent care, transportation, books, and supplies.

While the Act does not explicitly authorize the use of funds for direct assistance to students, the legislative history of the Act indicates that Congress intended to give eligible entities the flexibility to continue these services to the extent they were previously provided. In view of the legislative history and amendments to the Act, the Secretary believes the Congress intended to give eligible entities the flexibility to provide direct assistance to special populations under certain, limited circumstances.

The Secretary realizes the importance of this direct assistance to students and strongly encourages potential applicants to strengthen and multiply their efforts to coordinate with Federal, State, and local entities for the provision of these services.

(d) Integration of services. Funds under the NAVTEP may be integrated with assistance received from related programs in accordance with the provisions of Pub. L. 102-477, the Indian Employment, Training and Related Services Demonstration Act of 1992. Integration of services was not authorized under the IVEP.

(e) Supplanting. In accordance with section 311(a) of the Act, funds under this program may not be used to supplant non-Federal funds used to carry out vocational and technical education activities and tech-prep activities. Further, the prohibition against supplanting also means that grantees are required to use their negotiated restricted indirect cost rate under this program. (34 CFR 75.563). A supplanting provision did not apply to grantees under the IVEP.

Each year a few applicants propose to supplant tribal and other non-Federal funds with Federal funds in order to pay the costs of students' tuition, dependent care, transportation, books, supplies, and other costs associated with participation in a vocational and technical education program. With the new statutory prohibition against supplanting, the Secretary cautions applicants not to plan to use funds under the NAVTEP to replace otherwise available non-Federal funding for “direct assistance to students” and family assistance programs.

Further, the Secretary is concerned that funds under the NAVTEP may be used to replace Federal student financial aid. The Secretary wishes to highlight that the statute does not authorize the Secretary to fund projects that serve primarily as entities through which students may apply for and receive tuition and other financial assistance.

(f) Limitation on services. Section 315 of the Act prohibits the use of funds received under the Act to provide vocational and technical education programs to students prior to the seventh grade.

(g) Evaluation. In order to ensure the high quality of NAVTEP projects and the achievement of the purposes of section 116 of the Act, this notice includes a requirement for projects to evaluate their quality and effectiveness. Along with being consistent with the Act's requirement that recipients measure levels of performance, the notice is harmonious with the Department's promotion of accountability and performance measures under the Government Performance and Results Act (GPRA).

Definitions

Act of April 16, 1984 means the Federal law commonly known as the “Johnson-O'Malley Act” that authorizes the Secretary of the Interior to make contracts for the education of Indians and other purposes (25 U.S.C. 455-457).

Acute economic need means an income that is at or below the national poverty level according to the latest available data from the Department of Commerce or the Department of Health and Human Services Poverty Guidelines.

Alaska Native or Native means—

(a) A citizen of the United States who is a person of one-fourth degree or more Alaska Indian (including Tsimshian Indians not enrolled in the Metlakta Indian Community) Eskimo, or Aleut blood, or a combination thereof.

(b) The term includes—

(1) Any Native, as so defined, either or both of whose adoptive parents are not Natives; and

(2) In the absence of proof of a minimum blood quantum, any citizen of the United States who is regarded as an Alaska Native by the Native village or Native group of which he or she claims to be a member and whose father or mother is (or, if deceased, was) regarded as Native by any village or group. Any decision of the Secretary of Interior regarding eligibility for enrollment shall be final. (20 U.S.C. 2326(a)(1); 43 U.S.C. 1602(b)).

Alaska Native entity means an entity such as an Alaska Native village, group, or regional or village corporation. (20 U.S.C. 2326; 43 U.S.C. 1602(c), (d), (g), and (j)).

Alaska Native group means any tribe, band, clan, village, community, or village association of Natives in Alaska composed of less than twenty-five Natives, who comprise a majority of the residents of the locality. (43 U.S.C. 1602(d)).

Alaska Native village means any tribe, band, clan, group, village, community, or association in Alaska—

(a) Listed in sections 1610 and 1615 of the Alaska Native Claims Settlement Act; or

(b) That meets the requirements of chapter 33 of the Alaska Native Claims Settlement Act; and

(c) That the Secretary of Interior determines was, on the 1970 census enumeration date (as shown by the census or other evidence satisfactory to the Secretary of Interior, who shall make findings of fact in each instance), composed of twenty-five or more Natives. (43 U.S.C. 1602(c)).

Alaska regional corporation means an Alaska Native regional corporation established under the laws of the State of Alaska in accordance with the provisions of chapter 33 of the Alaska Native Claims Settlement Act. (43 U.S.C. 1602(g)).

Alaska village corporation means an Alaska Native Village Corporation organized under the laws of the State of Alaska as a business for profit or nonprofit corporation to hold, invest, manage and/or distribute lands, property, funds, and other rights and assets for and on behalf of a Native village in accordance with the terms of chapter 33 of the Alaska Native Claims Settlement Act. (43 U.S.C. 1602(j)).

Bureau means the Bureau of Indian Affairs of the U.S. Department of the Interior. (25 U.S.C. 2026(2)).

Bureau-funded school means—

(a) A Bureau operated elementary or secondary day or boarding school or Bureau-operated dormitory for students attending a school other than a Bureau school. (25 U.S.C. 2026(4));

(b) An elementary or secondary school or dormitory which receives financial assistance for its operation under a contract, grant, or agreement with the Bureau under section 102, 103(a), or 208 of the Indian Self-Determination Act (25 U.S.C. 450f, 450h(a), or 458d) or under the Tribally Controlled Schools Act of 1988 (25 U.S.C. 2504). (25 U.S.C. 2026(5)); or

(c) A school for which assistance is provided under the Tribally Controlled Schools Act of 1988 (25 U.S.C. 2501 et seq.). (25 U.S.C. 2026(3)).

Coherent sequence of courses means a series of courses in which vocational and academic education is integrated, and which directly relates to, and leads to, both academic and occupational competencies. The term includes competency-based education and academic education.

Direct assistance to students means tuition, dependent care, transportation, books, and supplies.

Indian means a person who is a member of an Indian tribe. (20 U.S.C. 2326(a)(3); 25 U.S.C. 450b(d)).

Indian tribe means any Indian tribe, band, nation, or other organized group or community, including any Alaska Native village or regional or village corporation as defined in or established pursuant to the Alaska Native Claims Settlement Act (43 U.S.C. 1601 et seq.) that is recognized as eligible for the special programs and services provided by the United States to Indians because of their status as Indians. (20 U.S.C. 2326(a)(3); 25 U.S.C. 450b(e)).

Institution of higher education means—

(a) An educational institution in any State that—

(1) Admits as regular students only persons having a certificate of graduation from a school providing secondary education, or the recognized equivalent of such a certificate;

(2) Provides an educational program for which the institution awards a bachelor's degree or provides not less than a 2-year program that is acceptable for full credit toward such a degree;

(3) Is a public or other nonprofit institution; and

(4) Is accredited by a nationally recognized accrediting agency or association, or if not so accredited, is an institution that has been granted preaccreditation status by such an agency or association that has been recognized by the Secretary of the Interior for the granting of preaccreditation status, and the Secretary of Interior has determined that there is satisfactory assurance that the institution will meet the accreditation standards of such an agency or association within a reasonable time.

(b) The term also includes—

(1) Any school that provides not less than a 1-year program of training to prepare students for gainful employment in a recognized occupation and that meets the provisions of paragraphs (a)(1), (3), and (4) of this definition.

(2) A public or nonprofit private educational institution in any State that, in lieu of the requirement in paragraph (a)(1) of this definition, admits as regular students persons who are beyond the age of compulsory school attendance in the State in which the institution is located.

(Authority: 20 U.S.C. 1001 and 2302(28))

Special populations means—

(a) Individuals with disabilities;

(b) Individuals from economically disadvantaged families, including foster children;

(c) Individuals preparing for nontraditional training and employment;

(d) Single parents, including single pregnant women;

(e) Displaced homemakers; and

(f) Individuals with other barriers to educational achievement, including individuals with limited English proficiency.(20 U.S.C. 2302(23)).

Stipend means a subsistence allowance for a student that is necessary for the student to participate in a project funded under this program.

Tribal organization means the recognized governing body of any Indian tribe; any legally established organization of Indians that is controlled, sanctioned, or chartered by that governing body or that is democratically elected by the adult members of the Indian community to be served by the organization and that includes the maximum participation of Indians in all phases of its activities, provided that in any case where a contract is let or grant made to an organization to perform services benefiting more than one Indian tribe, the approval of each such Indian tribe shall be a prerequisite to the letting or making of such contract or grant. (20 U.S.C. 2326(a)(3); 25 U.S.C. 450b(l)).

Tribally Controlled College or University means an institution of higher education which is formally controlled, or has been formally sanctioned, or chartered, by the governing body of an Indian tribe or tribes, except that no more than one such institution shall be recognized with respect to any such tribe.

(Authority: 20 U.S.C. 2302(27) and 25 U.S.C. 1801(a)(4))

Vocational and technical education means organized educational activities that—

(a) Offer a sequence of courses that provides an individual with the academic and technical knowledge and skills the individual needs to prepare for further education and careers (other than careers requiring a baccalaureate, master's, or doctoral degree) in current or emerging employment sectors; and

(b) Include competency-based applied learning that contributes to an individual's academic knowledge, higher-order reasoning and problem-solving skills, work attitudes, general employability skills, technical skills, and occupational-specific skills of an individual. (20 U.S.C. 2302(29)).

Eligible Programs, Services, and Activities

(a) Authorized programs. Under this competition—

(1) The Secretary awards grants to carry out projects that improve vocational and technical education programs that are consistent with the purposes of the Act.

(2) In order to ensure that grants awarded will serve to improve vocational and technical education programs, the Secretary funds a vocational and technical education program, service, or activity that—

(i) Is new—was not provided by the applicant during the instructional term that preceded the request for funding under the NAVTEP;

(ii) Will improve or expand an existing vocational and technical education program; or

(iii) Inherently improves vocational and technical education.

(3) A program, service, or activity inherently improves vocational and technical education if it proposes to—

(i) Strengthen the academic, vocational, and technical skills of students participating in vocational and technical education programs—

(A) By strengthening the rigor of the academic and vocational and technical components of programs; and

(B) Through the integration of academics with vocational and technical education programs through a coherent sequence of courses to ensure learning in the core academic and vocational and technical subjects;

(ii) Expand the scope, depth, and relevance of curriculum, especially content that provides students with a comprehensive understanding of all aspects of an industry and a variety of hands-on, job-specific experiences;

(iii) Offer—

(A) Work-related experience, internships, cooperative education, school-based enterprises, entrepreneurship, community service learning, and job shadowing that are related to vocational and technical education programs;

(B) Coaching/mentoring and support services, extra help for students after school, on the weekends, and/or during the summers so they can meet higher standards;

(C) Career guidance and academic counseling for students participating in vocational and technical education programs under the NAVTEP;

(D) Placement services for students who have successfully completed vocational and technical education programs under the NAVTEP;

(E) Professional development programs for teachers, counselors, and administrators; or

(F) Strong partnerships among grantees and local educational agencies, postsecondary institutions, community leaders, adult education providers, and, as appropriate, other entities, such as employers, labor organizations, parents, and local partnerships, to enable students to achieve State academic standards and vocational and technical skills;

(iv) Use student assessment and evaluation data to continually improve instruction and staff development with the goal of increasing student achievement; or

(v) Perform research, development, demonstration, dissemination, evaluation and assessment, capacity building, and technical assistance.

(b) Assistance to Bureau-funded secondary schools. An Indian tribe, a tribal organization, an Alaska Native entity, or eligible Bureau-funded school that receives an award under this program may use all or a portion of the funds to provide assistance to a secondary school operated or supported by the Bureau of Indian Affairs to enable that school to carry out vocational and technical education programs.

(c) Student stipends. (1) A portion of an award under this program may be used to provide stipends to a student to help meet the costs of participation in a NAVTEP project.

(2) The student must—

(i) Be enrolled in a vocational and technical education project funded under this program;

(ii) Be in regular attendance in a NAVTEP project and meet the training institution's attendance requirement; and

(iii) Maintain satisfactory progress in his or her course of study according to the training institution's published standards for satisfactory progress.

(iv) Have an acute economic need that—

(A) Prevents participation in a project funded under this program; and

(B) Cannot be met through a work-study program.

(3) The amount of a stipend may be the greater of either the minimum hourly wage prescribed by State or local law, or the minimum hourly wage established under the Fair Labor Standards Act.

(4) A grantee may only award a stipend if the stipend combined with other resources the student receives does not exceed the student's financial need. A student's financial need is the difference between the student's cost of attendance and the financial aid or other resources available to defray the student's cost of attending a NAVTEP project.

(5) To calculate the amount of a student's stipend, a grantee would multiply the number of hours a student actually attends vocational and technical education instruction by the amount of the minimum hourly wage that is prescribed by State or local law, or by the minimum hourly wage that is established under the Fair Labor Standards Act.

Example: If a grantee uses the Fair Labor Standards Act minimum hourly wage of $6.15 and a student attends classes for 20 hours a week, the student's stipend would be $123 for the week during which the student attends classes ($6.15 × 20 = 123).

(d) Direct assistance to students. (1) A grantee may provide direct assistance to a student if the following conditions are met:

(A) The recipient of the direct assistance must be an individual who is a member of a special population and who is participating in a NAVTEP project.

(B) Direct assistance may only be provided to an individual to the extent that it is needed to address barriers to the individual's successful participation in a NAVTEP project.

(C) Direct assistance to individuals must be part of a broader, more generally focused effort to address the needs of individuals who are members of special populations. Direct assistance to individuals who are members of special populations is not, by itself, a “program for special populations”.

(D) Funds must be used to supplement, and not supplant, assistance that is otherwise available from non-Federal sources. For example, generally, a postsecondary educational institution could not use NAVTEP funds to provide child care for single parents if non-Federal funds previously were made available for this purpose, or if non-Federal funds are used to provide child care services for single parents participating in non-vocational programs and these services otherwise would have been available to vocational students in the absence of NAVTEP funds.

(2) In determining how much of the grant funds may be used for direct assistance to a student, a grantee must consider whether:

(A) The specific services to be provided are a reasonable and necessary cost of providing programs for special populations.

(B) The amount of the grant that would be used for these services (both on an item-by-item basis and in the aggregate compared to the amount of the entire grant) would be consistent with the predecessor authority to fund support services under the IVEP.

Integration of Services

(a) A tribe, tribal organization, or Alaska Native entity receiving financial assistance under this program may integrate those funds with assistance received from related programs in accordance with the provisions of Pub. L. 102-477, the Indian Employment, Training and Related Services Demonstration Act of 1992 (25 U.S.C. 3401 et seq.).

(b) A tribe, tribal organization, or Alaska Native entity wishing to integrate funds must have a plan that meets the requirements of the Indian Employment, Training and Related Services Demonstration Act of 1992 (25 U.S.C. 3401 et seq.) and is acceptable to the Secretary of the Interior and the Secretary of Education.

For further information on the integration of grant funds under this and related programs contact Lynn Forcia, Chief, Division of Job Placement and Training, Office of Economic Development, Bureau of Indian Affairs, U.S. Department of the Interior, 1849 C Street NW., Mailstop 4640-MIB, Washington, DC 20240. Telephone: (202) 219-5270. Internet address: Lynn_Forcia@ios.doi.gov. Fax: (202) 208-3664.

Special Considerations

In addition to the points to be awarded to applicants based on the selection criteria, under section 116(e) of the Act the Secretary awards—

(a) Up to 10 points to applications that propose exemplary approaches that involve, coordinate with, or encourage tribal economic development plans; and

(b) Five points to applications from tribally controlled colleges or universities that—

(1) Are accredited or are candidates for accreditation by a nationally recognized accreditation organization as an institution of postsecondary vocational and technical education; or

(2) Operate vocational and technical education programs that are accredited or are candidates for accreditation by a nationally recognized accreditation organization and issue certificates for completion of vocational and technical education programs. (20 U.S.C. 2326(e)).

Selection Criteria

The Secretary uses the following program criteria to evaluate an application. The maximum score for each criterion is indicated in parentheses.

(a) Need for project. (15 points) (1) The Secretary considers the need for the proposed project.

(2) In determining the need for the proposed project, the Secretary considers the following factors:

(i) The magnitude or severity of the problem to be addressed by the proposed project.

(ii) The magnitude of the need for the services to be provided or the activities to be carried out by the proposed project (as evidenced by data such as local labor market demand, occupational trends, surveys, recommendations from accrediting agencies, or tribal economic development plans).

(iii) The extent to which specific gaps or weaknesses in services, infrastructure, or opportunities have been identified and will be addressed by the proposed project, including the nature and magnitude of those gaps or weaknesses.

(b) Significance. (10 points) (1) The Secretary considers the significance of the proposed project.

(2) In determining the significance of the proposed project, the Secretary considers the following factors:

(i) The potential contribution of the proposed project to increased knowledge or understanding of educational needs, issues, or effective educational strategies for providing vocational and technical education to American Indians and Alaska Natives.

(ii) The likelihood that the proposed project will result in system change or improvement in the applicant's educational program.

(iii) The extent to which the proposed project is likely to build local capacity to provide, improve, or expand services that address the vocational and technical education needs of the target population.

(iv) The extent to which the results of the proposed project are to be disseminated in ways that will enable vocational and technical education practitioners to use the information or strategies developed by the proposed project.

(v) The importance or magnitude of the results or outcomes likely to be attained by the proposed project, especially improvements in teaching and student achievement.

(c) Quality of the project design. (25 points) (1) The Secretary considers the quality of the project design.

(2) In determining the quality of the design of the proposed project, the Secretary considers the following factors:

(i) The extent to which goals, objectives, and outcomes are clearly specified and measurable (e.g., student vocational and technical education activities; expected enrollments, completions, and student placements in jobs, military specialties, and continuing education/training opportunities in each vocational training area; the number of teachers, counselors, and administrators to be trained; identification of requirements for each course of study to be provided under the project, including related training areas; description of performance outcomes; and description of the planned dissemination activities, including the number and names of products or practices to be disseminated, target audience for dissemination activities, and intended uses for disseminated products or services).

(ii) The extent to which the design of the proposed project is appropriate to, and will successfully address, the needs of the target population or other identified needs.

(iii) The extent to which the design for implementing and evaluating the proposed project will result in information to guide possible replication of project activities or strategies, including information about the effectiveness of the approach or strategies employed by the project.

(iv) The extent to which the design of the proposed project reflects up-to-date knowledge from research and effective practice.

(v) The extent to which the proposed project will be coordinated with similar or related efforts, and with other appropriate community, State, and Federal resources.

(vi) The extent to which the proposed project will establish linkages with other appropriate agencies and organizations providing services to the target population.

(vii) The extent to which performance feedback and continuous improvement are integral to the design of the proposed project.

(viii) The quality of the methodology to be employed in the proposed project.

(d) Quality of project services. (25 points) (1) The Secretary considers the quality of the services to be provided by the proposed project.

(2) In determining the quality of the services to be provided by the proposed project, the Secretary considers the following factors:

(i) The extent to which the services to be provided by the proposed project are appropriate to the needs of the intended recipients of those services.

(ii) The extent to which the services to be provided by the proposed project reflect up-to-date knowledge from research and effective practice.

(iii) The likely impact of the services to be provided by the proposed project on the intended recipients of those services.

(iv) The extent to which the training or professional development services to be provided by the proposed project are of sufficient quality, intensity, and duration to lead to improvements in practice among the recipients of those services.

(v) The extent to which the training or professional development services to be provided by the proposed project for the staff of its vocational and technical education program are of sufficient quality, intensity, and duration to lead to improvements in practice among the applicant's staff.

(vi) The likelihood that the services to be provided by the proposed project will lead to improvements in the skills necessary to gain employment.

(vii) The likelihood that the services to be provided by the proposed project will lead to improvements in the achievement of students as measured against rigorous academic standards.

(viii) The likelihood that the services to be provided by the proposed project will lead to improvements in the skills necessary to gain employment or build capacity for independent living.

(e) Quality of project personnel. (15 points) (1) The Secretary considers the quality of the personnel who will carry out the proposed project.

(2) In determining the quality of project personnel, the Secretary considers the extent to which the applicant encourages applications for employment from persons who are members of groups that have traditionally been underrepresented based on color, national origin, gender, age, or disability.

(3) In addition, the Secretary considers the following factors:

(i) The qualifications, including relevant training and experience, of the project director.

(ii) The qualifications, including relevant training and experience, of key project personnel, especially the extent to which the project will use instructors who are certified to teach in the field in which they will provide instruction.

(iii) The qualifications, including relevant training and experience, of project consultants or subcontractors.

(f) Adequacy of resources. (5 points) (1) The Secretary considers the adequacy of resources for the proposed project.

(2) In determining the adequacy of resources for the proposed project, the Secretary considers the following factors:

(i) The adequacy of support, including facilities, equipment, supplies and other resources, from the applicant organization(s).

(ii) The relevance and demonstrated commitment (e.g., articulation agreements, memoranda of understanding, letters of support, commitments to employ project participants) of the applicant, members of the consortium, local employers, or tribal entities to be served by the project, to the implementation and success of the project.

(iii) The extent to which the budget is adequate to support the proposed project.

(iv) The extent to which the costs are reasonable in relation to the objectives, design, services, and potential significance of the proposed project.

(v) The extent to which the costs are reasonable in relation to the number of persons to be served and to the anticipated results and benefits.

(vi) The potential for continued support of the project after Federal funding ends, including, as appropriate, the demonstrated commitment of appropriate entities to provide such support.

(g) Quality of the management plan. (10 points) (1) The Secretary considers the quality of the management plan for the proposed project.

(2) In determining the quality of the management plan for the proposed project, the Secretary considers the following factors:

(i) The adequacy of the management plan to achieve the objectives of the proposed project on time and within budget, including clearly defined responsibilities, timelines, and the milestones and performance standards for accomplishing project tasks.

(ii) The extent to which the time commitments of the project director and principal investigator and other key project personnel are appropriate and adequate to meet the objectives of the proposed project.

(iii) The adequacy of procedures for ensuring feedback and continuous improvement in the operation of the proposed project.

(iv) The adequacy of mechanisms for ensuring high-quality products and services from the proposed project.

(h) Quality of the project evaluation. (20 points)

(1) The Secretary considers the quality of the evaluation to be conducted by an independent evaluator of the proposed project.

(2) In determining the quality of the evaluation, the Secretary considers the following factors:

(i) The extent to which the methods of evaluation proposed by the grantee are thorough, feasible, and appropriate to the goals, objectives, and outcomes of the proposed project.

(ii) The extent to which the methods of evaluation include the use of objective performance measures that are clearly related to the intended outcomes of the project and the GPRA core factors discussed elsewhere in this notice, and will produce quantitative and qualitative data to the extent possible.

(iii) The extent to which the methods of evaluation will provide timely guidance for quality assurance.

(iv) The extent to which the methods of evaluation will provide performance feedback and permit periodic assessment of progress toward achieving intended outcomes.

(v) The extent to which the evaluation will provide guidance about effective strategies suitable for replication or testing in other settings. (Approved by the Office of Management and Budget under Control No. 1830-0542)

Additional Factors

After evaluating applications according to the selection criteria in this notice, the Secretary may select other than the most highly rated applications for funding if doing so would—

(a) Permit the funding of more cost-effective projects;

(b) Prevent the duplication of an effort already being made;

(c) Create a more equitable distribution of funds under this competition among Indian tribes, tribal organizations, Alaska Native entities, or eligible Bureau-funded schools;

(d) Prevent the funding of an applicant who performed poorly under a previous award under this program, especially one who failed to accomplish the project objectives; or

(e) Permit the funding of a variety of approaches for carrying out the activities under the NAVTEP.

Program Requirements

To ensure the high quality of NAVTEP projects and the achievement of the goals and purposes of section 116(e) of the Act, the Secretary establishes the following program requirements:

(a) Evaluation. (1) Each grantee shall budget for and conduct an ongoing evaluation of its effectiveness. An independent evaluator must conduct the evaluation.

(2) The evaluation must—

(i) Be appropriate for the project and be both formative and summative in nature;

(ii) Include performance measures that are clearly related to the intended outcomes of the project and the GPRA core factors for the NAVTEP;

(iii) Measure the effectiveness of the project, including a comparison between the intended and observed results, and a demonstration of a clear link between the observed results and the specific treatment given to project participants;

(iv) Measure the extent to which information about or resulting from the project was disseminated and the ease by which project activities and results were replicated at other sites, such as through the grantee's development and use of guides or manuals that provide step-by-step directions for practitioners to follow when initiating similar efforts and reproducing comparable results; and

(v) Measure the long-term impact of the project, e.g., follow-up data on students' employment, sustained employment, promotions, advancement in the military, further/continuing education or training, or the impact the project had on tribal economic development or vocational and technical education activities offered by tribes.

(3) A proposed project evaluation design must be submitted to the Department for review and approval prior to the end of the first six months of the project period.

(4) As required in paragraph (b)(2) of the “PROGRAM REQUIREMENTS” section of this notice, the results of the evaluation must be submitted to the Secretary along with the annual performance report.

(b) Reporting. Each grantee shall submit to the Secretary the following reports—

(1) A semi-annual performance report, unless the Secretary requires more frequent reporting, summarizing significant project accomplishments and, if applicable, barriers impeding progress and steps taken to alleviate those barriers.

(2) A performance report must include—

(i) A comparison of actual accomplishments to the objectives established for the period. Describe any problems, delays, or adverse conditions that materially impair the ability of the project to accomplish its purposes, along with the reasons for slippage and an explanation of any action taken or contemplated to resolve the difficulties;

(ii) A description of any favorable developments that will permit the project to accomplish its purposes sooner, at less cost, or more effectively than projected; and

(iii) A statistical report covering quantitative analyses of—

(A) The extent to which the project achieved its goals with respect to enrollment, completion, and placement (into additional training or education, military service, or employment) of participants for the most recently completed training cycle(s) by gender and by courses of study for which instruction was provided;

(B) The number and kind of academic, vocational and technical, and work credentials and competencies acquired and demonstrated by individuals participating in the project, including the number of those who have completed the education and training offered by the project. Grantees should also report students' participation in programs providing instruction at the associate degree level that is articulated with an advanced degree option; and

(C) The number of referrals to social or related services that were intended to improve the extent to which participants benefit from the project (e.g., referring a student to an agency that will help her to obtain child care or health care, which would result in improved classroom attendance) or to prepare for or obtain employment.

(3) An annual evaluation report that is submitted along with the annual performance report. (Approved by the Office of Management and Budget under Control Number 1830-0542)

Indian Self-Determination Contracts

Section 116(b)(2) of the Act provides that grants or contracts awarded under section 116 are subject to the terms and conditions of section 102 of the Indian Self-Determination Act (ISDA)(25 U.S.C. 450f) and shall be conducted in accordance with the provisions of sections 4, 5, and 6 of the Act of April 16, 1934, which are relevant to the programs administered under section 116(b). Section 102 of the ISDA authorizes Indian tribes to request self-determination contracts. Accordingly, an Indian tribe or tribal organization that has applied to the Secretary for financial assistance under the NAVTEP and has been notified of its selection to be a recipient of financial assistance may submit a request to operate its NAVTEP project through a section 102 Indian self-determination contract.

In accordance with section 102(a) of the ISDA, any tribe or tribal organization requesting to operate its project under an Indian self-determination contract must do so by tribal resolution. After successful applicants are selected under the competition announced in this notice, the Secretary will review any such requests pursuant to the ISDA. If a request for an Indian self-determination contract is approved, the Indian tribe or tribal organization submitting the request will be required, to the extent possible, to operate its project in accordance with the terms of the ISDA, as well as in accordance with the relevant provisions of the NAVTEP statute and the program requirements established in this notice. As with grants, self-determination contracts under the NAVTEP are limited to a 36-month period and subject to the availability of funds. The vocational and technical education programs, services, and activities provided through an Indian self-determination contract would have to be essentially the same as were proposed in the initial application and approved by the Department. Any tribe or tribal organization that is successful under the competition announced in this notice and is selected to receive funding, but whose request for an Indian self-determination contract is denied, may appeal the denial to the Secretary. If you have questions about ISDA self-determination contracts, please contact the staff listed in the FOR FURTHER INFORMATION CONTACT section of this notice.

Government Performance and Results Act (GPRA)

The Government Performance and Results Act of 1993 (GPRA) places new management expectations and requirements on Federal departments and agencies by creating a framework for more effective planning, budgeting, program evaluation, and fiscal accountability for Federal programs. The intent of the Act is to improve public confidence by holding departments and agencies accountable for achieving program results. Departments and agencies must clearly describe the goals and objectives of their programs, identify resources and actions needed to accomplish these goals and objectives, develop a means of measuring progress made, and regularly report on their achievement. One important source of program information on successes and lessons learned is the project evaluation conducted under individual grants. NAVTEP grantees shall include the following core factors in evaluating the success of their projects:

(a) Students master academic knowledge and skills that meet challenging State defined (at the secondary level) or program defined (at the postsecondary level) academic standards as measured by—

(1) At the secondary level, an increase in the number of vocational and technical education students who show increased score gains in language arts, mathematics, science, and social studies; and

(2) At the postsecondary level, an increase in the number of vocational and technical education students who receive degrees, certificates, or credentials.

(b) Students master the knowledge and skills that meet State established (at the secondary level) or program established (at the postsecondary level), industry-validated vocational and technical skill standards as measured by—

(1) An increase in the number of programs with industry-recognized skill standards so students can earn skill certificates in those programs; and

(2) An increase in the number of programs offering skill competencies, related assessments, and industry-recognized skills certificates in secondary and postsecondary institutions.

(c) Student attainment of a secondary school diploma or its State-recognized equivalent, proficiency credentials in conjunction with a secondary school diploma, or a postsecondary degree or credential as measured by an increase in the number of vocational and technical education students who—

(1) At the secondary level—

(i) Attain high school diplomas; or

(ii) Attain a proficiency credential in conjunction with a secondary school diploma or its State-recognized equivalent; or

(2) At the postsecondary level, attain postsecondary degrees, certificates, and credentials.

(d) Placement in, retention in, and completion of, postsecondary education or advanced training, placement in military services, or placement or retention in employment as measured by an increase in the number of vocational and technical education students who—

(1) Graduate from secondary programs and enter postsecondary programs;

(2) Graduate from postsecondary programs and enter advanced degree programs or advanced training;

(3) Remain in and/or complete a postsecondary degree or certificate program;

(4) Are placed in military service; or

(5) Are placed in a job, upgraded in a job, or retain employment.

(e) Student participation in and completion of vocational and technical education programs that lead to nontraditional training and employment as measured by an increase in the number of vocational and technical education students who—

(1) Enroll in nontraditional training programs; and

(2) Secure employment in nontraditional job/careers. (Approved by the Office of Management and Budget under Control Number 1830-0542)

Waiver of Rulemaking

Under the Administrative Procedure Act (5 U.S.C. 553) the Department generally offers interested parties the opportunity to comment on proposed program requirements before they are implemented. However, section 437(d)(1) of the General Education Provisions Act exempts from formal rulemaking requirements, regulations governing the first grant competition under a new or substantially revised program authority (20 U.S.C. 1232(d)(1)). The program authority for what was formerly known as the Indian Vocational Education Program was substantially revised on October 31, 1998 by section 116 of Pub. Law 105-332. In order to make awards on a timely basis, the Assistant Secretary has decided to publish this notice of program requirements without requesting public comment, under the authority of section 437(d)(1). Any requirements, criteria, or regulations that the Department establishes for future competitions will be published in proposed form in the Federal Register with an opportunity for interested persons to comment.

The Assistant Secretary is not promulgating any regulations through this notice applicable to section 116(b)(2) of the Act, relating to certain sections of the Indian Self-Determination Act and the Act of April 16, 1934. However, the Assistant Secretary is interested in receiving future public comment and suggestions on the Department's implementation of section 116 of the Act and on whether any regulations may be needed in the future. Please send written public comments on this issue to Sharon A. Jones, Division of National Programs, Office of Vocational and Adult Education, U.S. Department of Education, 400 Maryland Avenue, SW. (Room 4515, Mary E. Switzer Building), Washington, DC 20202-7242. Telephone (202) 205-9870. Internet addresses: sharon_jones@ed.gov.

Instructions for Transmittal of Applications

Applicants are required to submit one original signed application and two copies of the application. All forms and assurances must have ink signatures. Please mark applications as “original” or “copy”. To aid with the review of applications, the Department encourages applicants to submit four additional paper copies of the application. The Department will not penalize applicants who do not provide additional copies.

(a) If an applicant wants to apply for a grant under this competition, the applicant must either—

(1) Mail the original and two copies of the application on or before the deadline date to:

U.S. Department of Education, Application Control Center, Attention: (CFDA #84.101), Washington, DC 20202-4725, or

(2) Hand deliver the original and two copies of the application by 4:30 p.m. (Washington, DC time) on or before the deadline date to:

U.S. Department of Education, Application Control Center, Attention: (CFDA #84.101), Room #3633, Regional Office Building #3, 7th and D Streets, SW., Washington, DC

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Assistance (ED Form 424) the CFDA number—and suffix letter, if any—of the competition under which the application is being submitted.

Application Instructions and Forms

All forms and instructions are included as Appendix A of this notice. Questions and answers pertaining to this program are included, as Appendix B, to assist potential applicants.

To apply for an award under this program competition, an application must be organized in the following order, include the following five parts, and CONTAIN DOCUMENTATION SHOWING THAT THE APPLICANT AND, IF APPROPRIATE, CONSORTIUM MEMBERS ARE ELIGIBLE ACCORDING TO THE REQUIREMENTS IN THE “ELIGIBLE APPLICANTS” SECTION OF THIS NOTICE. The parts and additional materials are as follows:

(1) Application for Federal Education Assistance (ED Form 424 (Rev. 1-12-99)) and instructions.

(2) Budget Information—Non-Construction Programs (ED Form No. 524) and instructions.

(3) Budget Narrative.

(4) Program Narrative.

(5) Additional Assurances and Certifications:

a. Assurances—Non-Construction Programs (Standard Form 424B).

b. Certification regarding Lobbying, Debarment, Suspension, and Other Responsibility Matters; and Drug-Free Workplace Requirements (ED 80-0013) and instructions.

c. Certification regarding Debarment, Suspension, Ineligibility and Voluntary Exclusion: Lower Tier Covered Transactions (ED Form 80-0014, 9/90) and instructions.

Note: ED Form 80-0014 is intended for the use of grantees and should not be transmitted to the Department.

d. Disclosure of Lobbying Activities (Standard Form LLL), if applicable, and instructions. This document has been marked to reflect statutory changes. See the notice published by the Office of Management and Budget at 61 FR 1413 (January 19, 1996).

e. Notice to All Applicants.

No grant or cooperative agreement may be awarded unless a completed application form has been received.

FOR FURTHER INFORMATION CONTACT: Paul Geib, Linda Mayo, or Gwen Washington, Special Programs Branch, Division of National Programs, Office of Vocational and Adult Education, U.S. Department of Education, 400 Maryland Avenue, SW. (Room 4520, Mary E. Switzer Building), Washington, DC 20202-7242. Telephone (202) 205-9962, 205-9353, or 205-9270, respectively. Internet addresses:

paul_geib@ed.gov

linda_mayo@ed.gov

gwen_washington@ed.gov

Individuals who use a telecommunications device for the deaf (TDD) may call the Federal Information Relay Service (FIRS) at 1-800-877-8339 between 8 a.m. and 8 p.m. Eastern time, Monday through Friday. Individuals with disabilities may obtain this notice in an alternative format (e.g., Braille, large print, audiotape, or computer diskette) on request to the contact person listed at the beginning of this paragraph. Please note, however, that the Department is not able to reproduce in an alternative format the standard forms included in the notice.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 2326(a)-(g).

Dated: December 27, 2000.
Robert Muller,
Acting Assistant Secretary, Office of Vocational and Adult Education.

Estimated Public Reporting Burden

According to the Paperwork Reduction Act of 1995, no persons are required to respond to a collection of information unless it displays a valid OMB control number. The valid OMB control number for this information collection is 1830-0542. Expiration date: September 30, 2003. The time required to complete this information collection is estimated to average 208 hours per response, including the time to review instructions, search existing data resources, gather the data needed, and complete and review the information collection.

If you have any comments concerning the accuracy of the time estimates or suggestions for improving this form, please write to: U.S. Department of Education, Washington, DC 20202-4651.

If you have comments or concerns regarding the status of your individual submission of this form, write directly to: Paul Geib, Linda Mayo or Gwen Washington, Division of National Programs, Office of Vocational and Adult Education, U.S. Department of Education, 400 Maryland Avenue, SW., Room 4512, Mary E. Switzer Building, Washington, DC 20202-7242.

Appendix A

Part II—Budget Information

Instructions for Part II—Budget Information Sections A and B—Budget Summary by Categories

1. Personnel: Show salaries to be paid to personnel for each budget year.

2. Fringe Benefits: Indicate the rate and amount of fringe benefits for each budget year.

3. Travel: Indicate the amount requested both local and out of State travel of Program Staff for each budget year. Include funds for the 1st and 2nd year for two people to attend the Program Director's Workshop.

4. Equipment: Indicate the cost of non-expendable personal property that has a cost of $5,000 or more per unit for each budget year.

5. Supplies: Include the cost of consumable supplies and materials to be used during the project period for each budget year.

6. Contractual: Show the amount to be used for: (1) procurement contracts (except those which belong on other lines such as supplies and equipment); and (2) sub-contracts for each budget year.

7. Construction: Not applicable.

8. Other: Indicate all direct costs not clearly covered by lines 1 through 6 above, including consultants and capital expenditures for each budget year.

9. Total Direct Cost: Show the total for Lines 1 through 8 for each budget year.

10. Indirect Costs: Indicate the rate and amount of indirect costs for each budget year.

11. Training/Stipend Cost: Indicate cost per student and number of hours of instruction. The amount of a stipend may be the greater of the minimum hourly wage prescribed by State and local law, or the minimum hourly wage set under the Fair Labor Standards Act.

12. Total Costs: Show total for lines 9 through 11 for each budget year.

Instructions for Part III—Budget Narrative

The budget narrative should explain, justify, and, if needed, clarify your budget summary. For each line item (personnel, fringe benefits, travel, etc.) in your budget, explain why it is there and how you computed the costs.

Please limit this section to no more than five pages. Be sure that each page of your application is numbered consecutively.

Appendix B

Potential applicants frequently direct questions to officials of the Department regarding application notices and programmatic and administrative regulations governing various direct grant programs. To assist potential applicants, the Department has assembled the following most commonly asked questions followed by the Department's answers.

Q. Can we get an extension of the deadline?

A. No. A closing date may be changed only under extraordinary circumstances. Any change must be announced in the Federal Register and must apply to all applications. Waivers for individual applications cannot be granted regardless of the circumstances.

Q. How many copies of the application should I submit and must they be bound?

A. Applicants are required to submit one original and two copies of the grant application. To aid with the review of applications, the Department encourages applicants to submit four additional copies of the grant application. The Department will not penalize applicants who do not provide additional copies. The binding of applications is optional.

Q. We just missed the deadline for the XXX competition. May we submit under another competition?

A. Yes, however, the likelihood of success is not good. A properly prepared application must meet the specifications of the competition to which it is submitted.

Q. I'm not sure which competition is most appropriate for my project. What should I do?

A. We are happy to discuss any such questions with you and provide clarification on the unique elements of the various competitions.

Q. Will you help us prepare our application?

A. We are happy to provide general program information. Clearly, it would not be appropriate for staff to participate in the actual writing of an application, but we can respond to specific questions about application requirements, evaluation criteria, and the priorities. Applicants should understand, however, that prior contact with the Department is not required, nor will it in any way influence the success of an application.

Q. When will I find out if I'm going to be funded?

A. You can expect to receive notification within 3 to 4 months of the applications received and the number of Department competitions with similar closing dates.

Q. Once my application has been reviewed by the review panel, can you tell me the outcome?

A. No. Every year we are called by a number of applicants who have a legitimate reason for needing to know the outcome of the panel review prior to official notification. Some applicants need to make job decisions, some need to notify a local school district, etc. Regardless of the reason, because final funding decisions have not been made at that point, we cannot share information about the results of the panel review with anyone.

Q. Will my application be returned if I am not funded?

A. No. We no longer return unsuccessful applications. Thus, applicants should retain at least one copy of the application.

Q. Can I obtain copies of reviewers' comments?

A. Upon written request, reviewers' comments will be mailed to unsuccessful applicants.

Q. If my application receives high scores from the reviewers, does that mean that I will receive funding?

A. Not necessarily. It is often the case that the number of applications scored highly by the reviewers exceeds the dollars available for funding projects under a particular competition. The order of selection, which is based on the scores of all the applications reviewed and other relevant factors, determines the applications that can be funded.

Q. What happens during pre-award clarification discussions?

A. During pre-award clarification discussions, technical and budget issues may be raised. These are issues that have been identified during the panel and staff reviews that require clarification. Sometimes issues are stated as “conditions.” These are issues that have been identified as so critical that the award cannot be made unless those conditions are met. Questions may also be raised about the proposed budget. Generally, these issues are raised because an application contains inadequate justification or explanation of a particular budget item, or because the budget item seems unimportant to the successful completion of the project. If you are asked to make changes that you feel could seriously affect the project's success, you may provide reasons for not making the changes or provide alternative suggestions. Similarly, if proposed budget reductions will, in your opinion, seriously affect the project activities, you may explain why and provide additional justification for the proposed expenses. An award cannot be made until all issues under discussion have been resolved.

Q. How do I provide an assurance?

A. Except for SF-424B. “Assurances—Non-Construction Programs,” you may provide an assurance simply by stating in writing that you are meeting a prescribed requirement.

Q. Where can copies of the Federal Register, Education Department General Administrative Regulations (EDGAR), and Federal statutes be obtained?

A. Copies of these materials can usually be found at your local library. If not, they can be obtained from the Government Printing Office by writing to Superintendent of Documents, U.S. Government Printing Office, Washington, DC 20402. Telephone: (202) 708-8228. When requesting copies of regulations or statutes, it is helpful to use the specific name of the public law, number of a statute, or part number of a regulation. The material referenced in this notice should be referred to as follows:

(1) The Carl D. Perkins Vocational and Technical Education Act of 1998.

(2) Education Department General Administrative Regulations, 34 CFR parts 74, 75, 77, 80, 81, 82, 85, 86, 97, 98, and 99.

Copies of these materials may also be found on the World Wide Web at http://www.access.gpo.gov/nara.

BILLING CODE 4000-01-P

[FR Doc. 01-68 Filed 1-2-01; 8:45 am]

BILLING CODE 4000-01-C